DEPARTMENT OF DEFENSE

Department of the Army

[Docket ID: USA-2010-0001]

Privacy Act of 1974; System of Records

AGENCY: Department of the Army, DoD.

ACTION: Notice to alter a system of records.

SUMMARY: Department of the Army is proposing to alter a system of records notices in its existing inventory of record systems subject to the Privacy Act of 1974, (5 U.S.C. 552a), as amended.

DATES: This proposed action will be effective without further notice on April 19, 2010 unless comments are received which result in a contrary determination.

ADDRESSES: You may submit comments, identified by docket number and title, by any of the following methods:

* Federal Rulemaking Portal: http://www.regulations.gov. Follow the instructions for submitting comments.

* Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones at (703) 428-6185.

SUPPLEMENTARY INFORMATION: Department of the Army notices for systems of records subject to the Privacy Act of 1974 (5 U.S.C. 552a), as amended, have been published in the Federal Register and are available from: Department of the Army, Privacy Office, U.S. Army Records Management and Declassification Agency, 7701 Telegraph Road, Casey Building, Suite 144, Alexandria, VA 22325-3905.

The proposed system report, as required by 5 U.S.C. 552a(r) of the Privacy Act of 1974, as amended, was submitted on March 4, 2010, to the House Committee on Government Reform, the Senate Committee on Homeland Security and Governmental Affairs, and the Office of Management and Budget (OMB) pursuant to paragraph 4c of Appendix I to OMB Circular No. A-130, “Federal Agency Responsibilities for Maintaining Records About Individuals,” (February 20, 1996; 61 FR 6427).

Dated: March 15, 2010.
Mitchell S. Bryman,
Alternate OSD Federal Register Liaison Officer, Department of Defense.

A0600-20 DCS, G-1

SYSTEM NAME:

Sexual Assault Data Management System (SADMS) (January 8, 2007; 72 FR 742).

CHANGES:

SYSTEM NAME:

Delete entry and replace with “Sexual Assault (SADMS) and Sexual Harassment (SHARP) Program Records.”

* * * * *

CATEGORIES OF INDIVIDUALS COVERED BY THE SYSTEM:

Delete entry and replace with “Any uniformed member of the Army, DoD Civilian and/or DoD Contractor personnel accompanying our armed forces as integral parts of a unified mission who has been identified as the victim of a sexual assault.

Any person who has been identified as the victim of a sexual assault allegedly committed by a uniformed member of the Army, a DoD Civilian or DoD Contractor accompanying our armed forces as integral parts of a unified mission.

Any person who has been titled, by a law enforcement agency, as the perpetrator of an alleged sexual assault against a uniformed member of the Army, a DoD Civilian or DoD Contractor accompanying our armed forces as integral parts of a unified mission.

Any uniformed member of the Army, DoD Civilian and/or DoD Contractor accompanying our armed forces as integral parts of a unified mission, contractor, or civilian employee who has been Titled, by a Law Enforcement Agency as the perpetrator of an alleged sexual assault.

Any victim or offender identified in a report of sexual assault investigated by the Criminal Investigation Command (CID).

Any uniformed member of the Army, DoD Civilian and/or DoD Contractor personnel accompanying our armed forces as integral parts of a unified mission who has reported a military sexual harassment complaint. Any person who has been identified as the subject in a military sexual harassment allegation by a uniformed member of the Army, a DoD Civilian or DoD Contractor accompanying our armed forces as integral parts of a unified mission.”

CATEGORIES OF RECORDS IN THE SYSTEM:

Delete entry and replace with “Name; Social Security Number (SSN); date of birth; rank or status; demographic information; investigation related information relating to a sexual assault or sexual harassment incident; initial and final treatment dates and aggregate count of intermediate medical treatment contacts with the victim (only for those victims who are uniformed members of the Army and elect unrestricted reporting); information from records/reports relating to victim support extended by installation and/or unit advocates; and actions taken by commanders against offenders. Where a sexual assault victim elects confidential or “restricted” sexual assault reporting pursuant to the DoD confidentiality policy that went into effect June 14, 2005, victim personal identifying information will not be maintained within the systems, and by default, there will be no investigative or legal disposition of alleged offender information maintained within the system.”

AUTHORITY FOR MAINTENANCE OF THE SYSTEM:

Delete entry and replace with “Pub. L. 108-375, Section 577; 10 U.S.C. 3013, Secretary of the Army; DoD Directive 1030.1, Victim and Witness Assistance; AR 27-10 Military Justice; DoD Directive 6495.01, Sexual Assault Prevention and Response (SAPR) Program; AR 40-66 Medical Record Administration and Health Care Documentation; AR 195-2 Criminal Investigation Activities; AR 600-20, Army Command Policy; AR 608-18, Family Advocacy Program DoD Instruction 6495.02, Sexual Assault Prevention and Response Program Procedures; and E.O. 9397 (SSN), as amended.”

PURPOSE(S):

Delete entry and replace with “To provide a web-based case reporting tool for the submission of relevant data to the Sexual Assault Data Management System (SADMS) and a centralized repository of relevant data regarding the entire lifecycle of sexual assault cases, involving victims and/or alleged offenders who are members of the Army (either the victim and/or alleged offender(s) must be a uniformed member of the Army and/or DoD Civilians and/or DoD Contractor personnel and either the victim and/or alleged offender(s) must serve or accompany our armed forces as integral parts of the unified mission). To enhance compilation and accuracy of statistical data and management reports to enable Sexual Harassment/Assault Response and Prevention Program (SHARP) leaders to assess the effectiveness of both response and prevention and make fact-based changes to policy and procedures on the strength of this analysis. The system also stores training documentation for all personnel whose duties pertain to sexual assault and sexual harassment reporting and documentation.”

* * * * *

ROUTINE USES OF RECORDS MAINTAINED IN THE SYSTEM, INCLUDING CATEGORIES OF USERS AND THE PURPOSES OF SUCH USES:

Delete entry and replace with “In addition to those disclosures generally permitted under 5 U.S.C. 552a(b) of the Privacy Act of 1974, these records may be disclosed outside the DoD as a routine use pursuant to 5 U.S.C. 552a(b)(3) as follows:

The DoD “Blanket Routine Uses” set forth at the beginning of the Office of the Secretary of Defense compilation of systems of records notices also apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

* * * * *

SAFEGUARDS:

Delete entry and replace with “All records are maintained in areas accessible only to authorized personnel who have an official need-to-know in the performance of their assigned duties. Automated records are further protected by assignment of user identification and password to protect the system from unauthorized access. User identification and passwords are validated through a Public Key Infrastructure (PKI) and utilize a Common Access Card (CAC). The system employs a Secure Socket Layer (SSL) certificate and 128 bit encryption to provide further protection from unauthorized access to personal data. During non-duty hours, physical security will be provided by the military police Pentagon Force Protection Agency Police, or contract guard patrols to ensure protection against unauthorized access.”

RETENTION AND DISPOSAL:

Delete entry and replace with “Sexual Assault Data Management System (SADMS) Master File:

Disposition: Keep in current file area until no longer needed for conducting business, then retire to Records Holding Area/Army Electronic Archives (RHA/AEA). The RHA/AEA will destroy the record when the record is 60 years old. Unrestricted reports will be maintained for 40 years, unless there is no authoritative source data other than the data provided by advocacy (Sexual Assault Response Coordinator/Victim Advocate). Sexual Harassment/Assault Response and Prevention (SHARP) program Standard Reports:

Disposition: Keep in current file area until the data has been archived, then until no longer needed for conducting business, and then retire to Records Holding Area/Army Electronic Archives (RHA/AEA). The RHA/AEA will destroy the record in 5 years.

SEXUAL HARASSMENT RECORDS:

Disposition pending until the National Archives and Records Administration has approved retention and disposition of these records, treat as permanent.”

SYSTEM MANAGER(S) AND ADDRESS:

Delete entry and replace with “Chief, Human Relations Policy Directorate, Deputy Chief of Staff, Army G-1, ATTN: DAPE-HR, 300 Army Pentagon, Washington, DC 20310-0300.”

NOTIFICATION PROCEDURE:

Delete entry and replace with “Individuals seeking to determine whether information about themselves is contained in these systems should address written inquiries to Deputy Chief of Staff, Army G-1, ATTN: DAPE-HR, 300 Army Pentagon, Washington, DC 20310-0300.

For verification purposes, individual should provide their full name, Social Security Number (SSN), current address and telephone number and other personal identifying data that would assist in locating the records.

In addition, the requester must provide a notarized statement or an unsworn declaration made in accordance with 28 U.S.C. 1746, in the following format:

If executed outside the United States: “I declare (or certify, verify, or state) under penalty of perjury under the laws of the United States of America that the foregoing is true and correct. Executed on (date). (Signature)”.

If executed within the United States, its territories, possessions, or commonwealths: “I declare (or certify, verify, or state) under penalty of perjury that the foregoing is true and correct. Executed on (date). (Signature)”.”

RECORDS ACCESS PROCEDURE:

Delete entry and replace with “Individuals seeking access to information about themselves contained in this system should address written inquiries to the Deputy Chief of Staff, Army G-1, ATTN: DAPE-HR-HF, 300 Army Pentagon, Washington, DC 20310-0300.

For verification purposes, individual should provide their full name, Social Security Number (SSN), current address and telephone number and other personal identifying data that would assist in locating the records.

In addition, the requester must provide a notarized statement or an unsworn declaration made in accordance with 28 U.S.C. 1746, in the following format:

If executed outside the United States: “I declare (or certify, verify, or state) under penalty of perjury under the laws of the United States of America that the foregoing is true and correct. Executed on (date). (Signature)”.

If executed within the United States, its territories, possessions, or commonwealths: “I declare (or certify, verify, or state) under penalty of perjury that the foregoing is true and correct. Executed on (date). (Signature)”.”

* * * * *

RECORD SOURCE CATEGORIES:

Delete entry and replace with “Army Criminal Investigation Intelligence System (ACI2); Central Operations Police Suite (COPS); Sexual Assault Response Program Tracking Application (SARPTA); Sexual Harassment/Assault Response and Prevention (SHARP); Army Court Martial Information System (ACMIS); Defense Eligibility and Enrollment Reporting System (DEERS); Defense Manpower Data Center (DMDC); Total Army Personnel Data Base (TAPDB); Defense Integrated Military Human Resources System (DIMHRS); Army Human Resources Data Repository; Army Civilian Personnel Records System (ACPERS); Defense Civilian Personnel Data System (DCPDS); Contractor Verification System (CVS); Synchronized Personnel Operational Tracker (SPOT); Civilian Tracking System (CIVTRACKS); Deployed Theater Accountability System (DTAS) (unclass only); Interim Reporting Solution workbook; Department of Justice (DOJ); the Army Force Management Support Web-based Army Authorization Document System (FMSWeb, previously WebTAADS); and the Equal Opportunity Reporting System (EORS). HQDA, G-1, SHARP Program Office will coordinate the extent and scope of official Army systems data that will be incorporated into the Sexual Harassment/Assault Response and Prevention program.”

EXEMPTIONS CLAIMED FOR THE SYSTEM:

Delete entry and replace with “This system of records is a compilation of information from other Department of Defense/Army systems of records. To the extent that copies of exempt records from those other systems of records are entered into this system of records, the Army G-1 hereby claims the same exemptions for the records from those other systems that are entered into this system, as claimed for the original primary system of which they are a part.

An exemption rule for this system has been promulgated in accordance with requirements of 5 U.S.C. 553(b)(1), (2), and (3), (c) and (e) and published in 32 CFR part 505. For additional information contact the system manager.”

* * * * *

A0600-20 DCS, G-1

SYSTEM NAME:

Sexual Assault (SADMS) and Sexual Harassment (SHARP) Program Records.

SYSTEM LOCATION:

Headquarters, Department of the Army, Staff and field operating agencies, major commands, installations and activities. Official mailing addresses are published as an appendix to the Army's compilation of systems of records notices.

CATEGORIES OF INDIVIDUALS COVERED BY THE SYSTEM:

Any uniformed member of the Army, DoD Civilian and/or DoD Contractor personnel accompanying our armed forces as integral parts of a unified mission who has been identified as the victim of a sexual assault.

Any person who has been identified as the victim of a sexual assault allegedly committed by a uniformed member of the Army, a DoD Civilian or DoD Contractor accompanying our armed forces as integral parts of a unified mission.

Any person who has been titled, by a law enforcement agency, as the perpetrator of an alleged sexual assault against a uniformed member of the Army, a DoD Civilian or DoD Contractor accompanying our armed forces as integral parts of a unified mission.

Any uniformed member of the Army, DoD Civilian and/or DoD Contractor accompanying our armed forces as integral parts of a unified mission, contractor, or civilian employee who has been Titled, by a Law Enforcement Agency as the perpetrator of an alleged sexual assault.

Any victim or offender identified in a report of sexual assault investigated by the Criminal Investigation Command (CID).

Any uniformed member of the Army, DoD Civilian and/or DoD Contractor personnel accompanying our armed forces as integral parts of a unified mission who has reported a military sexual harassment complaint. Any person who has been identified as the subject in a military sexual harassment allegation by a uniformed member of the Army, a DoD Civilian or DoD Contractor accompanying our armed forces as integral parts of a unified mission.

CATEGORIES OF RECORDS IN THE SYSTEM:

Name; Social Security Number (SSN); date of birth; rank or status; demographic information; investigation information relating to a sexual assault or sexual harassment incident; initial and final treatment dates and aggregate count of intermediate medical treatment contacts with the victim (only for those victims who are uniformed members of the Army and elect unrestricted reporting); information from records/reports relating to victim support extended by installation and/or unit advocates; and actions taken by commanders against offenders. Note: Where a sexual assault victim elects confidential or “restricted” sexual assault reporting pursuant to the DoD confidentiality policy that went into effect June 14, 2005, victim personal identifying information will not be maintained within the systems, and by default, there will be no investigative or legal disposition of alleged offender information maintained within the system.

AUTHORITY FOR MAINTENANCE OF THE SYSTEM:

10 U.S.C. 3013, Secretary of the Army; Public Law 108-375, Section 577; DoD Directive 1030.1, Victim and Witness Assistance; AR 27-10 Military Justice; DoD Directive 6495.01, Sexual Assault Prevention and Response (SAPR) Program; AR 40-66 Medical Record Administration and Health Care Documentation; AR 195-2 Criminal Investigation Activities; AR 600-20, Army Command Policy; AR 608-18, Family Advocacy Program DoD Instruction 6495.02, Sexual Assault Prevention and Response Program Procedures; and E.O. 9397 (SSN), as amended.

PURPOSE(S):

To provide a Web-based case reporting tool for the submission of relevant data to the Sexual Assault Data Management System (SADMS) and a centralized repository of relevant data regarding the entire lifecycle of sexual assault cases, involving victims and/or alleged offenders who are members of the Army (either the victim and/or alleged offender(s) must be a uniformed member of the Army and/or DoD Civilians and/or DoD Contractor personnel and either the victim and/or alleged offender(s) must serve or accompany our armed forces as integral parts of the unified mission). To enhance compilation and accuracy of statistical data and management reports to enable Sexual Harassment/Assault Response and Prevention Program (SHARP) leaders to assess the effectiveness of both response and prevention and make fact-based changes to policy and procedures on the strength of this analysis. The system also stores training documentation for all personnel whose duties pertain to sexual assault and sexual harassment reporting and documentation.

ROUTINE USES OF RECORDS MAINTAINED IN THE SYSTEM, INCLUDING CATEGORIES OF USERS AND THE PURPOSES OF SUCH USES:

In addition to those disclosures generally permitted under 5 U.S.C. 552a(b) of the Privacy Act of 1974, these records may be disclosed outside the DoD as a routine use pursuant to 5 U.S.C. 552a(b)(3) as follows:

The DoD “Blanket Routine Uses” set forth at the beginning of the Office of the Secretary of Defense compilation of systems of records notices also apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

POLICIES AND PRACTICES FOR STORING, RETRIEVING, ACCESSING, RETAINING, AND DISPOSING OF RECORDS IN THE SYSTEM:

STORAGE:

Electronic storage media.

RETRIEVABILITY:

Name and Social Security Number (SSN).

SAFEGUARDS:

All records are maintained in areas accessible only to authorized personnel who have an official need-to-know in the performance of their assigned duties. Automated records are further protected by assignment of user identification and password to protect the system from unauthorized access. User identification and passwords are validated through a Public Key Infrastructure (PKI) and utilize a Common Access Card (CAC). The system employs a Secure Socket Layer (SSL) certificate and 128 bit encryption to provide further protection from unauthorized access to personal data. During non-duty hours, physical security will be provided by the military police Pentagon Force Protection Agency Police, or contract guard patrols to ensure protection against unauthorized access.

RETENTION AND DISPOSAL:

SEXUAL ASSAULT DATA MANAGEMENT SYSTEM (SADMS) MASTER FILE:

Disposition: Keep in current file area until no longer needed for conducting business, then retire to Records Holding Area/Army Electronic Archives (RHA/AEA). The RHA/AEA will destroy the record when the record is 60 years old. Unrestricted reports will be maintained for 40 years, unless there is no authoritative source data other than the data provided by advocacy (Sexual Assault Response Coordinator/Victim Advocate). Sexual Harassment/Assault Response and Prevention (SHARP) program Standard Reports:

Disposition: Keep in current file area until the data has been archived, then until no longer needed for conducting business, and then retire to Records Holding Area/Army Electronic Archives (RHA/AEA). The RHA/AEA will destroy the record in 5 years.

SEXUAL HARASSMENT RECORDS:

Disposition pending until the National Archives and Records Administration has approved retention and disposition of these records, treat as permanent.

SYSTEM MANAGER(S) AND ADDRESS:

Chief, Human Relations Policy Directorate, Deputy Chief of Staff, Army G-1, ATTN: DAPE-HR, 300 Army Pentagon, Washington, DC 20310-0300.

NOTIFICATION PROCEDURE:

Individuals seeking to determine whether information about themselves is contained in these systems should address written inquiries to Deputy Chief of Staff, Army G-1, ATTN: DAPE-HR, 300 Army Pentagon, Washington, DC 20310-0300.

For verification purposes, individual should provide their full name, Social Security Number (SSN), current address and telephone number and other personal identifying data that would assist in locating the records.

In addition, the requester must provide a notarized statement or an unsworn declaration made in accordance with 28 U.S.C. 1746, in the following format:

If executed outside the United States: “I declare (or certify, verify, or state) under penalty of perjury under the laws of the United States of America that the foregoing is true and correct. Executed on (date). (Signature)”.

If executed within the United States, its territories, possessions, or commonwealths: “I declare (or certify, verify, or state) under penalty of perjury that the foregoing is true and correct. Executed on (date). (Signature)”.

RECORDS ACCESS PROCEDURE:

Individuals seeking access to information about themselves contained in this system should address written inquiries to the Deputy Chief of Staff, Army G-1, ATTN: DAPE-HR-HF, 300 Army Pentagon, Washington, DC 20310-0300.

For verification purposes, individual should provide their full name, Social Security Number (SSN), current address and telephone number and other personal identifying data that would assist in locating the records.

In addition, the requester must provide a notarized statement or an unsworn declaration made in accordance with 28 U.S.C. 1746, in the following format:

If executed outside the United States: “I declare (or certify, verify, or state) under penalty of perjury under the laws of the United States of America that the foregoing is true and correct. Executed on (date). (Signature)”.

If executed within the United States, its territories, possessions, or commonwealths: “I declare (or certify, verify, or state) under penalty of perjury that the foregoing is true and correct. Executed on (date). (Signature)”.

CONTESTING RECORDS PROCEDURES:

The Army's rules for accessing records, and for contesting contents and appealing initial agency determinations are contained in Army Regulation 340-21; 32 CFR part 505; or may be obtained from the system manager.

RECORD SOURCE CATEGORIES:

Army Criminal Investigation Intelligence System (ACI2); Central Operations Police Suite (COPS); Sexual Assault Response Program Tracking Application (SARPTA); Sexual Harassment/Assault Response and Prevention (SHARP); Army Court Martial Information System (ACMIS); Defense Eligibility and Enrollment Reporting System (DEERS); Defense Manpower Data Center (DMDC); Total Army Personnel Data Base (TAPDB); Defense Integrated Military Human Resources System (DIMHRS); Army Human Resources Data Repository; Army Civilian Personnel Records System (ACPERS); Defense Civilian Personnel Data System (DCPDS); Contractor Verification System (CVS); Synchronized Personnel Operational Tracker (SPOT); Civilian Tracking System (CIVTRACKS); Deployed Theater Accountability System (DTAS) (unclass only); Interim Reporting Solution workbook; Department of Justice (DOJ); the Army Force Management Support Web-based Army Authorization Document System (FMSWeb, previously WebTAADS); and the Equal Opportunity Reporting System (EORS). HQDA, G-1, SHARP Program Office will coordinate the extent and scope of official Army systems data that will be incorporated into the Sexual Harassment/Assault Response and Prevention program.

EXEMPTIONS CLAIMED FOR THE SYSTEM:

This system of records is a compilation of information from other Department of Defense/Army systems of records. To the extent that copies of exempt records from those other systems of records are entered into this system of records, the Army G-1 hereby claims the same exemptions for the records from those other systems that are entered into this system, as claimed for the original primary system of which they are a part.

An exemption rule for this system has been promulgated in accordance with requirements of 5 U.S.C. 553(b)(1), (2), and (3), (c) and (e) and published in 32 CFR part 505. For additional information contact the system manager.

[FR Doc. 2010-5961 Filed 3-17-10; 8:45 am]

BILLING CODE 5001-06-P